OFFICE OF THE UNITED STATES TRADE REPRESENTATIVE

Notice of a New System of Records and Request for Public Comment Pursuant to Privacy Act of 1974

AGENCY: Office of the United States Trade Representative.

ACTION: Notice and request for comments.

SUMMARY: Pursuant to the Privacy Act of 1974, 5 U.S.C. 552(a)(e)(4), the Office of the United States Trade Representative (USTR) is required to publish notice in the Federal Register upon the establishment of a system of records on identifiable individuals maintained by the USTR and to provide opportunity to comment. USTR has established a new system of records maintaining information submitted by individuals who are interested in serving on dispute settlement panels under certain trade agreements and seeks comments on the “routine uses” of this information.

DATES: Comments should be submitted by December 31, 2001.

ADDRESSES: Comments should be sent to: Attn: Ms. Sybia Harrison, FOIA Officer, Office of the U.S. Trade Representative, 600 17th Street, NW., Washington, DC 20508. Due to the recent disruption of mail to federal agencies in Washington, DC, commentors may also submit their comments by fax: (202) 395-3639, or by e-mail: boverton@ustr.gov.

FOR FURTHER INFORMATION CONTACT: Ms. Sybia Harrison, FOIA Officer, (202) 395-3419.

SUPPLEMENTARY INFORMATION: In accordance with international trade agreements, the Office of the U.S. Trade Representative has established a system of records which maintains information by name on the qualifications of individuals who have responded to public solicitations and have indicated their interest in serving on a panel to resolve trade disputes. Specifically, Annex 1901.2 of the North American Free Trade Agreement (NAFTA) and section 123(h) of the Uruguay Round Agreements Act (URAA) (19 U.S.C. 3533(b)) make provision for USTR to maintain rosters of individuals interested in serving on such panels. On a periodic basis, USTR seeks applications through notice in the Federal Register from individuals for consideration as potential panelists. Solicitation of panelists under the URAA, was last made on November 9, 1999, 64 FR 61173. Solicitation of panelists under the NAFTA is being done concurrently with the publication of this notice. A specific notice seeking applications appeared on November 16, 2001, 66 FR 57767.

Notice of this systems of record, as required by 5 U.S.C. 552a(r), is being transmitted to Congress and the report required by Office of Management and Budget Circular A-130 has been submitted to the Administrator, Office of Information and Regulatory Affairs.

The notice for this USTR system is set forth as an annex to this notice.

Public Comment on “Routine Uses”

Written comments concerning the “routine uses” sections of the above USTR system of records notice is invited from interested persons pursuant to 5 U.S.C. 552a(e)(11). Comments may be presented in writing to the Office of the United States Trade Representative as indicated above.

John Hopkins,
Assistant U.S. Trade Representative for Administration.

Annex

USTR-6

SYSTEM NAME:

Dispute Settlement Panelists Roster.

SYSTEM LOCATION:

Office of the General Counsel, Office of the United States Trade Representative, 600 17th Street, NW., Washington, DC.

CATEGORIES OF INDIVIDUALS COVERED BY THE SYSTEM:

Non-governmental individuals who have expressed an interest in being selected to serve on a dispute settlement panel, or other similar entity, established under trade agreements to resolve trade disputes.

CATEGORIES OF RECORDS IN THE SYSTEM:

Applications from potential panelists typically include, correspondence with the potential panelist, general resume information, statements of citizenship when required, information regarding registration under the Foreign Agents Registration Act (22 U.S.C. 611), lists of publications and speeches, descriptions of professional affiliations, lists of clients, information regarding substantive qualifications in trade law, and names of references. In addition, the system contains disclosure forms submitted by candidate panelists setting forth areas where they may have a potential conflict-of-interest with respect to service on a specific panel. These typically cover financial interests, affiliations, identity of clients of the candidate or the candidate's firm.

AUTHORITY FOR MAINTENANCE OF THE SYSTEM:

Annex 1901.2 of the North American Free Trade Agreement (NAFTA), section 402 of the NAFTA Implementation Act, as amended (19 U.S.C. 3432), section 123(b) Uruguay Round Agreements Act (19 U.S.C. 3533(b)).

ROUTINE USES OF RECORDS MAINTAINED IN THE SYSTEM, INCLUDING CATEGORIES OF USERS AND THE PURPOSES OF SUCH USE.

Records are used by USTR staff to select potential panelist candidates to resolve trade disputes.

Relevant records in the system of records may be referred, as a routine use to other federal agencies in the course of determining eligibility for the roster, or assessing qualifications for service on a particular panel. Relevant records are also shared with foreign governments, the World Trade Organization and the NAFTA Secretariat, in the course of making determinations on panel members.

POLICIES AND PRACTICES FOR STORING, RETRIEVING, ACCESSING, RETAINING AND DISPOSING OF RECORDS IN THE SYSTEM:

STORAGE:

Paper.

RETRIEVABILITY:

By name.

SAFEGUARDS:

Stored in a guarded building; released only to authorized personnel.

RETENTION AND DISPOSAL:

Records are maintained in accordance with the Records Schedule for the Office of the General Counsel.

SYSTEM MANAGER(S) AND ADDRESS:

The General Counsel, Office of the U.S. Trade Representative, 600 17th Street, NW., Washington, DC 20508.

NOTIFICATION PROCEDURE:

Contact system manager noted above.

RECORD ACCESS PROCEDURE:

These records are available to the public except in instances where the panelists have asked that certain information be maintained as confidential in accordance with USTR's regulation on business confidential information found at 15 CFR 2003.6.

CONTESTING RECORD PROCEDURES:

See USTR access regulations in 15 CFR part 2005.

RECORD SOURCE CATEGORIES:

The subject individual; the USTR.

[FR Doc. 01-29794 Filed 11-29-01; 8:45 am]

BILLING CODE 3190-01-M